DEPARTMENT OF COMMERCE

International Trade Administration

[A-570-020, C-570-021]

Melamine From the People's Republic of China: Continuation of Antidumping and Countervailing Duty Orders

AGENCY: Enforcement and Compliance, International Trade Administration, Department of Commerce.

SUMMARY: The Department of Commerce (Commerce) and the International Trade Commission (ITC) have determined that revocation of the antidumping duty (AD) and countervailing duty (CVD) orders on melamine from the People's Republic of China (China) would likely lead to continuation or recurrence of dumping, net countervailable subsidies, and material injury to an industry in the United States. Therefore, Commerce is publishing a notice of continuation of these AD and CVD orders.

DATES: Applicable July 9, 2021.

FOR FURTHER INFORMATION CONTACT: Benjamin A. Smith, AD/CVD Operations, Office III, Enforcement and Compliance, International Trade Administration, U.S. Department of Commerce, 1401 Constitution Avenue NW, Washington, DC 20230; telephone: (202) 482-2181.

SUPPLEMENTARY INFORMATION:

Background

On December 28, 2015, Commerce published in the Federal Register the AD and CVD orders on melamine from China.¹ On November 3, 2020, Commerce published the notice of initiation of the first sunset review of the Orders, pursuant to section 751(c) of the Tariff Act of 1930, as amended (the Act).² On November 10, 2020, Commerce received notices of intent to participate from Cornerstone Chemical Company (Cornerstone, or domestic interested party), within the deadline specified in 19 CFR 351.218(d)(1)(i).³ Cornerstone claimed interested party status under section 771(9)(C) of the Act, as a domestic producer engaged in the production of melamine in the United States.

¹ See Melamine from the People's Republic of China: Antidumping Duty and Countervailing Duty Orders, 80 FR 80751 (December 28, 2015) (Orders).

² See Initiation of Five-Year (“Sunset”) Reviews, 85 FR 69585 (November 3, 2020).

³ See Cornerstone's Letter, “Five-Year (`Sunset') Review Of Countervailing Duty Order On Melamine from the People's Republic Of China: Domestic Interested Party Notice of Intent to Participate,” dated November 10, 2020; see also Cornerstone's Letter, “Five-Year (`Sunset') Review Of Antidumping Duty Order On Melamine from the People's Republic Of China: Domestic Interested Party Notice of Intent to Participate,” dated November 10, 2020.

On November 25, 2020, Commerce received substantive responses from the domestic interested party within the 30-day deadline specified in 19 CFR 351.218(d)(3)(i).⁴ We received no substantive responses from any other domestic or interested parties and no hearing was requested.

⁴ See Cornerstone's Letter, “Five-Year (`Sunset') Review Of Countervailing Duty Order On Melamine from the People's Republic Of China: Domestic Interested Party Substantive Response,” dated November 25, 2020; see also Cornerstone's Letter, “Five-Year (`Sunset') Review Of Antidumping Duty Order On Melamine from the People's Republic Of China: Domestic Interested Party Substantive Response,” dated November 25, 2020.

On December 23, 2020, Commerce notified the ITC that it did not receive adequate substantive responses from respondent interested parties.⁵ As a result, pursuant to section 751(c)(3)(B) of the Act and 19 CFR 351.218(e)(1)(ii)(C)(2), Commerce conducted expedited (120-day) sunset reviews of these Orders.

⁵ See Commerce's Letter, “Sunset Reviews for November 2020,” dated December 23, 2020.

As a result of its reviews, Commerce determined that revocation of the AD and CVD orders on melamine from China would likely lead to continuation or recurrence of dumping and subsidization. Therefore, Commerce notified the ITC of the magnitude of the margins likely to prevail should the orders be revoked, pursuant to sections 751(c)(1) and 752(b) and (c) of the Act.⁶ On July 6, 2021, the ITC published its determinations, pursuant to sections 751(c) and 752(a) of the Act, that revocation of the Orders would likely lead to continuation or recurrence of material injury to an industry in the United States within a reasonably foreseeable time.⁷

⁶ See Melamine from the People's Republic of China: Final Results of the Expedited Five-Year Sunset Review of the Countervailing Duty Order, 86 FR 11501 (February 25, 2021); see also Melamine from the People's Republic of China: Final Results of the Expedited Five-Year Sunset Review of the Antidumping Duty Order, 86 FR 13528 (March 9, 2021).

⁷ See Melamine from China, 86 FR 35531 (July 6, 2021).

Scope of the Orders

The merchandise subject to the Orders is melamine (Chemical Abstracts Service (CAS) registry number 108-78-01, molecular formula C3H6N6).⁸ Melamine is a crystalline powder or granule typically (but not exclusively) used to manufacture melamine formaldehyde resins. All melamine is covered by the scope of these Orders irrespective of purity, particle size, or physical form. Melamine that has been blended with other products is included within this scope when such blends include constituent parts that have been intermingled, but that have not been chemically reacted with each other to produce a different product. For such blends, only the melamine component of the mixture is covered by the scope of these Orders. Melamine that is otherwise subject to these orders is not excluded when commingled with melamine from sources not subject to these Orders. Only the subject component of such commingled products is covered by the scope of these Orders.

⁸ Melamine is also known as 2,4,6-triamino-s-triazine; 1,3,5-Triazine-2,4,6-triamine; Cyanurotriamide; Cyanurotriamine; Cyanuramide; and by various brand names.

The subject merchandise is provided for in subheading 2933.61.0000 of the Harmonized Tariff Schedule of the United States (HTSUS). Although the HTSUS subheading and CAS registry number are provided for convenience and customs purposes, the written description of the scope is dispositive.

Continuation of the Orders

As a result of the determinations by Commerce and the ITC that revocation of the Orders would likely lead to continuation or recurrence of dumping, countervailable subsidies, and material injury to an industry in the United States, pursuant to section 751(d)(2) of the Act and 19 CFR 351.218(a), Commerce hereby orders the continuation of the AD and CVD orders on melamine from China. U.S. Customs and Border Protection will continue to collect AD and CVD cash deposits at the rates in effect at the time of entry for all imports of subject merchandise.

The effective date of continuation of these Orders will be the date of publication in the Federal Register of this notice of continuation. Pursuant to section 751(c)(2) of the Act, Commerce intends to initiate the next five-year reviews of the Orders not later than 30 days prior to the fifth anniversary of the effective date of continuation.

Notification to Interested Parties

These five-year (sunset) reviews and this notice are in accordance with sections 751(c) and 751(d)(2) of the Act and published in accordance with section 777(i) of the Act, and 19 CFR 351.218(f)(4).

Dated: July 6, 2021.
James Maeder,
Deputy Assistant Secretary for Antidumping and Countervailing Duty Operations.

[FR Doc. 2021-14640 Filed 7-8-21; 8:45 am]

BILLING CODE 3510-DS-P